DEPARTMENT OF ENERGY

Federal Energy Regulatory Commission

[Docket No. RP04-33-000]

East-of-California Shippers, Complainant v. El Paso Natural Gas Company, Respondent; Notice of Complaint

October 30, 2003.

Take notice that on October 29, 2003, East-of-California Shippers (EOC Shippers) filed a Complaint Requesting Fast Track Processing pursuant to sections 4(b), 5(a), and 16 of the Natural Gas Act (NGA) Rule 206 of the Commission's Rule of Practice and Procedures, 18 CFR 385.206 against El Paso Natural Gas Company (El Paso). EOC Shippers allege that El Paso: (1) Failed to properly implement a “California Receipt Service” in violation of the Commission's May 31, 2002, September 20, 2002, December 26, 2002 and July 9, 2003 Orders in Docket Nos. RP00-336-000 et al. and the express terms of El Paso's tariff; (2) imposed an unwritten service condition on the availability of California Receipt Service in violation of section 284.7(c) of the Commission's regulations; and (3) is implementing the California Receipt Service in an unduly discriminatory manner in violation of section 284.7(b) and 284.9(b) of the Commission's regulations, and section 4(b) of the NGA.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: November 13, 2003.

Magalie R Salas,
Secretary.

[FR Doc. E3-00180 Filed 11-4-03; 8:45 am]

BILLING CODE 6717-01-P